DEPARTMENT OF ENERGY

10 CFR Part 708

RIN 1901-AA78

Criteria and Procedures for DOE Contractor Employee Protection Program; Correction

AGENCY: Office of Hearing and Appeals, Department of Energy.

ACTION: Final rule; correction.

SUMMARY: The Department of Energy published a final rule on February 9, 2000, to amend 10 CFR Part 708, the DOE contractor employee protection program (“whistleblower”) regulations. DOE previously adopted an interim final rule amending Part 708, which was published on March 15, 1999, and amended on July 12, 1999. This document corrects an error in the final rule.

DATES: This final rule is effective on March 10, 2000.

FOR FURTHER INFORMATION CONTACT: Roger Klurfeld, or Thomas O. Mann, telephone: (202) 426-1449; e-mail: roger.klurfeld@hq.doe.gov, thomas.mann@hq.doe.gov.

SUPPLEMENTARY INFORMATION: This document makes a correction to a final rule that was published in the Federal Register on February 9, 2000 (65 FR 6314). In that rulemaking, an error was made in a section heading numbering.

In rule FR document 00-2797, beginning on page 6314, in the issue of Wednesday, February 9, 2000, make the following correction:

PART 708—[CORRECTED]

§ 708.40 [Corrected]

1. On page 6319, in the third column, correct amendatory instruction 5 to read as follows:

5. A new Section 708.43 is added as follows:

§ 708.43. Does this rule impose an affirmative duty on DOE contractors not to retaliate?

* * * * *

Dated: February 16, 2000.
George B. Breznay,
Director, Office of Hearings and Appeals.

[FR Doc. 00-4346 Filed 2-23-00; 8:45 am]

BILLING CODE 6450-01-P